DEPARTMENT OF STATE

[Public Notice 6249]

Advisory Committee International Postal and Delivery Services

AGENCY: Department of State.

ACTION: Notice; FACA Committee meeting announcement.

SUMMARY: As required by the Federal Advisory Committee Act, Public Law 92-463, the Department of State gives notice of the second meeting of the Advisory Committee on International Postal and Delivery Services. This Committee has been formed in fulfillment of the provisions of the 2006 Postal Accountability and Enhancement Act (Pub. L. 109-435) and in accordance with the Federal Advisory Committee Act.

Public input: Any member of the public interested in providing public input to the meeting should contact Mr. Chris Wood, whose contact information is listed under FOR FURTHER INFORMATION CONTACT section of this notice. Each individual providing oral input is requested to limit his or her comments to five minutes. Requests to be added to the speaker list must be received in writing (letter, e-mail or fax) prior to the close of business on June 13, 2008; written comments from members of the public for distribution at this meeting must reach Mr. Wood by letter, e-mail or fax by this same date.

Meeting agenda: The agenda of the meeting will include information about U.S. participation in the 24th UPU Congress in Geneva, for example, the Congress calendar, U.S. proposals, major decisions expected and the views of Consultative Committee members on the issues to be considered by Congress.

DATES: June 17, 2008 from 2 p.m. to about 5 p.m. (open to the public).

Location: Room 1107, Department of State, 2201 C Street, NW., Washington, DC 20520. Individuals attending the Committee meeting should enter the State Department at the C Street entrance, where photo identification will be required to be displayed to Diplomatic Security before entering the building. One of the following forms of valid photo identification will be required for admission to the State Department building: U.S. driver's license, U.S. Government identification card, or any valid passport. Members of the public interested in attending this meeting are invited to pre-register by sending their information including Name, Date of Birth, and an Identification number (U.S. driver's license, U.S. Government identification card, or Passport) to Mr. Chris Wood. This will expedite entrance into the building.

FOR FURTHER INFORMATION CONTACT: Christopher Wood, Office of Technical Specialized Agencies (IO/T), Bureau of International Organization Affairs, U.S. Department of State, at (202) 647-1044, woodcs@state.gov.

Dated: May 29, 2008.
Dennis M. Delehanty,
Foreign Affairs Officer, Department of State.

[FR Doc. E8-12724 Filed 6-5-08; 8:45 am]

BILLING CODE 4710-19-P